NATIONAL SCIENCE FOUNDATION

Sunshine Act Meetings

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Wednesday, November 28, 2018 from 8:00 a.m. to 5:00 p.m. and Thursday, November 29, 2018, from 8:15 a.m. to 1:45 p.m. EST.

PLACE: These meetings will be held at the NSF headquarters, 2415 Eisenhower Avenue, Alexandria, VA 22314. Meetings are held in the boardroom on the 2nd floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Wednesday, November 28, 2018

Plenary Board meeting

Open Session: 8:00-9:15 a.m.

• NSB Chair's Opening Remarks

Introduction of new NSB members

• NSF Director's Remarks

• Summary of DC Meetings

• NSB Vision Project Discussion/Decision

Committee on Strategy (CS)

Open Session: 9:15-10:45 a.m.

• Committee Chair's Opening Remarks

• Approval of Prior Minutes

• FY 2019 Budget Request Update

• Directorate for Mathematical and Physical Sciences Portfolio Review

• NSB Vision Project

Committee on Oversight (CO)

Open Session: 11:00 a.m.-12:15 p.m.

• Committee Chair's Opening Remarks

• Approval of Prior Minutes

• Merit Review Report Update

• Report on Status of OIG Semiannual Report and NSF Management Response

• Inspector General's Update

• Chief Financial Officer's Update

• Responsible Conduct of Research

• Reducing Administrative Burdens on Research

Committee on Strategy (CS)

Closed Session: 1:15-1:30 p.m.

• Committee Chair's Opening Remarks

• Approval of Prior Minutes

• FY 2020 Budget Submission Update

Committee on Awards and Facilities (A&F)

Closed Session: 1:30-3:20 p.m.

• Committee Chair's Opening Remarks

• Approval of Prior Minutes

• Action Item: Sacramento Peak Observatory

• Update on Astronomy Facility Transitions

• Information Item: International Ocean Discovery Program (IODP)

• Information Item: Antarctic Infrastructure Modernization for Science (AIMS)

• Chief Officer for Research Facilities Report

Committee on Awards and Facilities (A&F)

Open Session: 3:30-4:00 p.m.

• Committee Chair's Opening Remarks

• Approval of Prior Minutes

• CY 2018-2019 Schedule of Planned Action and Information Items

• Status of the National Ecological Observatory Network (NEON)

• Discussion and Vote on the A&F Action Approval Process Policy Document

Plenary Board

Open Session: 4:00-5:00 p.m.

• White House Office of Science and Technology Policy Briefing

Matters to be Discussed:

Thursday, November 29, 2018

Committee on National Science and Engineering Policy (SEP)

Open Session: 8:15-9:20 a.m.

• Committee Chair's Opening Remarks

• Approval of Prior Minutes

• Update on Future Indicators Project

• Update on Science and Engineering Indicators (SEI) Thematic Reports and Roadmap

• Discussion of Draft SEI 2018 Policy Companion

• Discussion of Future Policy Topics

Committee on External Engagement (EE)

Open Session: 9:20-10:00 a.m.

• Committee Chair's Opening Remarks

• Approval of Prior Minutes

• NSB One-page Resources

• NSB Congressional Home District Office Meetings

• NSB Alumni Network Pilot Project

Task Force on the Skilled Technical Workforce (STW)

Open Session: 10:00-10:45 a.m.

• Chair's Opening Remarks

• Approval of Prior Minutes

• NSB/SBE National Center for Science and Engineering Statistics STW Data Update

• Discussion of Task Force Progress and Next Steps

Plenary Board

Closed Session: 11:00-11:15 a.m.

• Chair's Opening Remarks

• Director's Remarks

• Approval of Prior Minutes

• Closed Committee Reports

• Vote: Sacramento Peak Record of Decision

Plenary Board (Executive)

Closed Session: 11:15 a.m.-12:00 p.m.

• Chair's Opening Remarks

• Approval of Prior Minutes

• Director's Remarks

• Board Member Award Review

• Honorary Award Recommendations

Plenary Board

Open Session: 1:15-1:45 p.m.

• Chair's Opening Remarks

• Director's Remarks

• Approval of Prior Minutes

• Open Committee Reports

• Vote: OIG Semiannual Report and Management Response

• Chair's Closing Remarks

Meeting Adjourns: 1:45 p.m.

MEETINGS THAT ARE OPEN TO THE PUBLIC:

Wednesday, November 28, 2018

8:00-9:15 a.m. Plenary NSB Introduction

9:15-10:45 a.m. Committee on Strategy (CS)

11:00 a.m.-12:15 p.m. Committee on Oversight (CO)

3:30-4:00 p.m. Committee on Awards & Facilities (A&F)

4:00-5:00 p.m. Plenary

Thursday, November 29, 2018

8:15-9:20 a.m. Committee on Science and Engineering Policy (SEP)

9:20-10:00 a.m. Committee on External Engagement (EE)

10:00-10:45 a.m. Task Force on Skilled Technical Workforce (STW)

1:15-1:45 p.m. Plenary

MEETINGS THAT ARE CLOSED TO THE PUBLIC:

Wednesday, November 28, 2018

1:15-1:30 p.m. Committee on Strategy (CS)

1:30-3:20 p.m. (A&F)

Thursday, November 29, 2018

11:00-11:15 a.m. Plenary

11:15 a.m.-12:00 p.m. Plenary Executive

CONTACT PERSONS FOR MORE INFORMATION: The NSB Office contact is Brad Gutierrez, bgutierr@nsf.gov, 703-292-7000. The NSB Public Affairs contact is Nadine Lymn, nlymn@nsf.gov, 703-292-2490.

SUPPLEMENTARY INFORMATION: Public meetings and public portions of meetings held in the 2nd floor boardroom will be webcast. To view these meetings, go to: http://www.tvworldwide.com/events/nsf/180 717 and follow the instructions. The public may observe public meetings held in the boardroom. The address is 2415 Eisenhower Avenue, Alexandria, VA, 22314.

Please refer to the NSB website for additional information. You will find any updated meeting information and schedule updates (time, place, subject matter, or status of meeting) at https://www.nsf.gov/nsb/meetings/notices.jsp#sunshine.

The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2018-25717 Filed 11-20-18; 4:15 pm]

BILLING CODE 7555-01-P